DEPARTMENT OF AGRICULTURE

Forest Service

Kalispell Line Valve 5 to 6 Loop Natural Gas Pipeline Project, Flathead National Forest, Flathead County, MT

AGENCY: Forest Service, USDA.

ACTION: Notice: Intent to prepare an Environmental Impact Statement.

SUMMARY: The Forest Service will prepare an Environmental Impact Statement (EIS) for a proposal by NorthWestern Energy (NWE) to construct and operate a loop natural gas pipeline on the Hungry Horse Ranger District of the Flathead National Forest. The new loop pipeline would be installed underground and generally parallel Highway 2 and an existing natural gas transmission line currently authorized to NWE under a Forest Service special use permit (SUP). NWE proposes to construct approximately 12 miles of 12-inch diameter steel pipe from an existing natural gas valve station near Marias Pass on the Continental Divide westward to another existing valve station near the junction of Bear Creek and the Middle Fork Flathead River. The SUP would be amended to include the new loop pipeline. The project area is approximately 25 miles SW of Browning, Montana and approximately 50 highway miles SE of Columbia Falls, Montana.

DATES: Substantive comments regarding the proposal and the scope of the analysis should be received in writing on or before July 31, 2008. The draft EIS (DEIS) is expected to be filed with the Environmental Protection Agency and made available for public review in October 2008. When the DEIS is available a Notice of Availability (NOA) will be published in the Federal Register. The final EIS (FEIS) is expected to be published in February 2009.

ADDRESSES: Send written comments to Jimmy DeHerrera, District Ranger. The mailing address is Hungry Horse Ranger District, P.O. Box 190340, Hungry Horse, Montana 59919. Electronic comments may be e-mailed to comments-northern-flathead-hungry-horse-glacier-view@fs.fed.us with “Kalispell Line Valve 5 to 6 Loop Natural Gas Pipeline Project” in the subject line and must be submitted in MS Word (*.doc), rich text format (*.rtf), or portable document format (*.pdf). Comments received in response to this request will be available for public inspection and will be released in their entirety if requested, pursuant to the Freedom of Information Act.

FOR FURTHER INFORMATION CONTACT: David Ondov, Project Manager, Flathead National Forest, 650 Wolfack Way, Kalispell, MT 59901, (406) 758-5364.

SUPPLEMENTARY INFORMATION:

Purpose and Need for Action

The purpose and need for this project is to increase capacity and supply and to maintain reliable natural gas service to the Kalispell and Flathead Valley area of northwestern Montana. The integrity of the existing 10-inch diameter pipeline, constructed in 1962, is good, but NWE projects that its capacity will be reached within two years due to the continuing strong population growth in the Flathead Valley area. The existing pipeline is the Flathead Valley's only source of natural gas. During the past several years, the demand for natural gas has increased in western Montana as a result of steady population and economic growth. Kalispell, the largest town to be serviced by the proposed pipeline, grew from a population of 11,917 in 1990 to 19,432 in 2006.

Proposed Action

The proposed action includes construction and the long-term operation and maintenance of approximately 12 miles of 12-inch diameter steel pipe from an existing natural gas valve station near Marias Pass on the Continental Divide westward to another existing valve station near the junction of Bear Creek and the Middle Fork Flathead River. Approximately 11 miles of the new pipeline would be on National Forest System land and one mile would be on private lands in the central portion of the project area. The project area lies within the Hungry Horse Ranger District of the Flathead National Forest.

The new loop pipeline would be installed underground and generally parallel the existing natural gas pipeline that is currently authorized under a SUP to NWE. NWE would attempt to build the new pipeline as close as feasibly and technically possible to the existing line, but may have to diverge in some locations due to terrain, BNSF railroad tracks, highway right-of-way (ROW), environmental concerns, other utilities, engineering needs, or other technical factors. A portion of the new pipeline may need to be constructed in an inventoried roadless area due to a combination of these factors.

The authorized ROW for the existing pipeline in this area is 50 feet wide. The proposed action would require up to an additional temporary 50-foot wide working ROW to construct the new pipeline, with a final 50-80 foot total long-term operational ROW. The proposed action would, wherever possible, utilize the existing cleared, authorized 50 foot ROW to minimize the amount of new vegetation clearing and to combine maintenance access points. Pipeline operations require that the ROW remain free of heavy tree cover. Within the ROW, native forbs and shrubs would be maintained for the lifespan of the pipeline. Noxious weeds would be monitored and abated throughout the lifespan of the authorized use. The total new area affected for the 11 miles of ROW on National Forest land would be less than approximately 70 acres.

Underground installation would be conducted to comply with Department of Transportation (49 CFR 192.327) and NWE standards. Pipeline burial depths would allow for 42 inches of soil cover in normal soil, 60 inches at stream crossings, and 48 inches near public roads and railroads. Bedrock installations would be covered to a depth of 30 inches.

Areas of temporary disturbance would include temporary use areas for equipment and materials staging and construction access routes. Some of these would be on private lands. Native grasses and herbaceous plants would be restored in all areas where ground disturbance or vegetation removal occurs. Revegetation progress would be monitored for two growing seasons or until 80% native cover is achieved.

Two shed-sized structures and three above-ground pipe assemblies would be constructed at the valve station at the west end of the proposed project area. Federal pipeline inspection rules would require long-term motorized and non-motorized maintenance access at selected points along the pipeline route.

Construction of the loop pipeline would take approximately 90 to 120 days, depending on fire restrictions and other unforeseen delays. After construction, NWE would utilize both the new 12-inch diameter pipeline and the existing 10-inch diameter pipeline, with the pipelines interconnecting at the valve stations to create a “loop system.” Looping pipelines has been shown to be a cost-effective method for increasing system capacity.

A temporary special use construction permit would be issued to NWE following completion of the EIS and a Record of Decision approving the pipeline. Following construction planned for summer 2009, the existing SUP would be amended to include the new loop pipeline.

More detailed scoping information and maps can be accessed on the Flathead National Forest Internet site at http://www.fs.fed.us/r1/flathead/.

Possible Alternatives

Alternative 1 is the no-action alternative. Alternative 2, the proposed action described above, was developed by NWE to respond to the purpose and need and may be modified for the draft EIS upon consideration of field engineering studies during the summer of 2008. A route that does not enter inventoried roadless areas may also be included in another alternative. Other viable alternatives may be developed by modifying the proposed action to respond to significant issues identified during the public involvement and scoping process.

Responsible Official

The Responsible Official is the Forest Supervisor of the Flathead National Forest, 650 Wolfpack Way, Kalispell, Montana 59901. The Forest Supervisor will make a decision regarding this proposal considering the comments and responses, environmental consequences discussed in the final EIS, and applicable laws, regulations, and policies. The decision and rationale for the decision will be documented in a Record of Decision (ROD).

Nature of Decision To Be Made

The scope of this project is limited to decisions concerning activities related to the construction and operation of a new natural gas loop pipeline, as described earlier. The Forest Supervisor will decide whether to authorize the construction and long-term operation of the new loop pipeline with additional ROW. Related decisions may address ancillary activities such as weed control and vegetation monitoring on the pipeline ROW, access to the pipeline ROW, etc.

The Forest Supervisor will make decisions regarding this proposed project only for National Forest System lands. Her decision will determine whether a construction SUP is issued and the existing permit is amended.

This EIS will tier to the Flathead National Forest Land and Resource Management Plan and EIS of January 1986, and its subsequent amendments, which provide overall guidance for land management activities on the Flathead National Forest.

Scoping Process

The Forest Service is seeking input concerning comments and concerns about this proposal from Federal, State, and local agencies, Native American tribes, and other individuals and organizations that may be interested in or affected by the proposed action. This input will be used to identify issues and develop alternatives during preparation of the EIS. Comments should be as specific as possible to assist the Forest Service in this manner. In addition to the ongoing public participation process, formal opportunities for public participation will be provided upon publication of the DEIS.

Preliminary Issues

Preliminary issues and concerns that will likely be evaluated in the EIS include potential effects of the proposed action related to the following: Threatened or endangered species such as the grizzly bear, lynx, and bull trout; inventoried roadless areas; motorized access; noxious weeds; wetlands; scenic qualities; and sensitive plant and animal species.

Permits or Licenses Required

The Forest Supervisor would authorize NWE to construct, maintain, and use the new natural gas loop pipeline through the issuance of a temporary construction SUP and amendment of the existing SUP.

NWE may need to obtain additional permits and approvals to construct the pipeline. These could include: Section 404 Permit by the U.S. Army Corps of Engineers; Section 106 National Historic Preservation Act Concurrence issued by the State Historical Preservation Office; National Pollutant Discharge Elimination System General Construction Permit issued by Montana's Department of Environmental Quality; Montana Joint Application for Proposed Work in Streams, Lakes and Wetlands issued by the Montana Department of Natural Resources and Conservation; and a Utility Crossing Permit issued by the Montana Department of Transportation. A complete list of required permits and authorizations will be included in the EIS.

Comment Requested

The Forest Service is seeking public and agency comment on the proposed action in order to identify major issues to be analyzed in depth and assistance in identifying potential alternatives to be evaluated. Comments received on this notice, including the names and addresses of those who comment, will be considered as part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the decision regarding the request for confidentiality. Where the request is denied, the agency will return the submission and notify the requester that the comments may be resubmitted, without names and addresses, within a specified number of days.

The comment period on the DEIS will be 45 days from the date the Environmental Protection Agency publishes the notice of availability in the Federal Register.

The Forest Service believes, at this early stage, it is important to give reviewers notice of several court rulings related to public participation in the environmental review process. First, reviewers of DEIS must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS may be waived or dismissed by the courts. City of Angoon v. Hodel, 803 F2.d 1016, 1022 (9th Circ. 1986) and Wisconsin Heritages, Inc v. Harris, 490 F. Supp. 1334, 1338 (E.D. Wis. 1980). Because of these court rulings, it is very important that those interested in this proposed action participate by the close of the 45 day comment period so that substantive comments and objections are made available to the Forest Service at a time when they can meaningfully consider them and respond to them in the FEIS.

To assist the Forest Service in identifying and considering issues and concerns on the proposed action, comments on the DEIS should be as specific as possible. It is also helpful if comments refer to specific pages or chapters of the DEIS. Comments may also address the adequacy of the DEIS or the merits of the alternatives formulated and discussed in the statement. Reviewers may wish to refer to the Council on Environmental Quality Regulations for implementing the procedural provisions of the National Environmental Policy Act at 40 CFR 1503.3 in addressing these points.

Dated: June 27, 2008.
Cathy Barbouletos,
Forest Supervisor—Flathead National Forest.

[FR Doc. E8-15828 Filed 7-15-08; 8:45 am]

BILLING CODE 3410-11-M